DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were removed from Awatovi pueblo in Navajo County, AZ.

This notice is published as part of the National Park Service’s administrative responsibilities under NAGPRA, 25 U.S.C. (d)(3). The determinations within this notice are the sole responsibility of the museum, institution, or Federal agency that has control of the Native American human remains. The National Park Service is not responsible for the determinations within this notice.

A detailed assessment of the human remains was made by American Museum of Natural History professional staff in consultation with representatives of the Hopi Tribe of Arizona.

At an unknown date, human remains representing a minimum of 20 individuals were removed by Mr. Burton, an agent for the U.S. Department of the Interior, Bureau of Indian Affairs, from Awatovi pueblo in Navajo County, AZ. The human remains were subsequently acquired by Dr. Aleš Hrdlička, who gifted the human remains to the American Museum of Natural History in 1900. No known individuals were identified. No associated funerary objects are present.

The human remains have been identified as Native American based on their origin at Awatovi pueblo. Awatovi pueblo, an ancestral Hopi village site located on the Hopi Indian Reservation, was destroyed in A.D. 1700.

Although the lands from which the human remains were removed are currently under the jurisdiction of the U.S. Department of the Interior, Bureau of Indian Affairs, the American Museum of Natural History has possession and control of the human remains because their removal from tribal land predates the permit requirements established by the Antiquities Act of 1906.

Officials of the American Museum of Natural History have determined that, pursuant to 25 U.S.C. 3001 (9-10), the human remains listed above represent the physical remains of 20 individuals of Native American ancestry. Officials of the American Museum of Natural History also have determined that, pursuant to 25 U.S.C. 3001 (2), there is a relationship of shared group identity that can be reasonably traced between the Native American human remains and the Hopi Tribe of Arizona.

Representatives of any other Indian tribe that believes itself to be culturally affiliated with the human remains should contact Luc Litwinionek, Director of Cultural Resources, American Museum of Natural History, Central Park West at 79th Street, New York, NY 10024-5192, telephone (212) 769-5846, before September 19, 2003. Repatriation of the human remains to the Hopi Tribe of Arizona may proceed after that date if no additional claimants come forward.

The American Museum of Natural History is responsible for notifying the Hopi Tribe of Arizona that this notice has been published.

Dated: July 24, 2003.
John Robbins,
Assistant Director, Cultural Resources.

[FR Doc. 03-21342 Filed 8-19-03; 8:45 am]

BILLING CODE 4310-70-S